DEPARTMENT OF STATE

[Public Notice: 10182]

Department of State Performance Review Board Members

In accordance with section 4314(c)(4) of 5 United States Code, the Department of State has appointed the following individuals to the Department of State Performance Review Board for Senior Executive Service members: James Walsh, Chairperson, Deputy Assistant Secretary, Bureau of International Narcotics and Law Enforcement, Department of State; Lisa Grosh, Assistant Legal Adviser, Office of the Legal Adviser, Department of State; Nancy Jackson, Deputy Assistant Secretary, Bureau of Population, Refugees and Migration, Department of State; Eliot Kang, Deputy Assistant Secretary, Bureau of International Security and Nonproliferation, Department of State; and, Gail Neelon, Associate Dean, Foreign Service Institute, Department of State.

Dated: October 20, 2017.
William Todd,
Acting, Director General of the Foreign Service and Director of Human Resources, Department of State.

[FR Doc. 2017-23796 Filed 10-31-17; 8:45 am]

BILLING CODE 4710-15-P